DEPARTMENT OF COMMERCE

Bureau of the Census

[Docket Number 090429803-91272-02]

Procedures for Participating in the 2010 Decennial Census New Construction Program

AGENCY: Bureau of the Census, Department of Commerce.

ACTION: Notice.

SUMMARY: The Bureau of the Census (Census Bureau) publishes this notice to announce the final procedures for the New Construction Program, which allows tribal and local governments to submit lists of addresses for newly constructed housing units to the Census Bureau. The purpose of this program is to ensure that the Census Bureau's address list is as complete and accurate as possible for the conduct of the decennial census on April 1, 2010. This notice also summarizes the comments received on the July 1, 2009, Federal Register notice (74 FR 31405) requesting comments on the proposed 2010 Census New Construction Program and the response of the Census Bureau.

Electronic availability: This notice is available on the Internet from the Census Bureau's Web site at http://www.census.gov/.

DATES: These New Construction procedures, which reflect revisions based on public comment following publication of draft procedures, will be implemented on November 3, 2009.

ADDRESSES: Correspondence concerning the 2010 Census New Construction Program in general should be submitted to Arnold A. Jackson, Associate Director for Decennial Census, U.S. Census Bureau, through one of the following methods:

FAX: Correspondence may be faxed to (301) 763-8867.

E-mail: Correspondence may be e-mailed to Arnold.A.Jackson@census.gov.

FOR FURTHER INFORMATION CONTACT: For further information about the Census Bureau's 2010 Census New Construction Program, contact Timothy F. Trainor, Chief, Geography Division, U.S. Census Bureau, through one of the following methods:

FAX: Correspondence may be faxed to (301) 763-4710.

E-mail: Correspondence may be e-mailed to Timothy.F.Trainor@census.gov.

SUPPLEMENTARY INFORMATION: As part of its objective to produce a complete and accurate population count, the Census Bureau will implement the 2010 Decennial Census New Construction Program to capture the addresses of newly constructed housing units. Specifically, the purpose of this program is to utilize tribal and local knowledge of recent and in-progress construction to identify, and add to the census address list, the addresses for housing units not yet existent at the time of the Address Canvassing Operation. Address Canvassing was a nationwide check of addresses that was completed during the spring/summer of 2009 in which the Census Bureau verified the census address list that will be used to deliver questionnaires for the 2010 Decennial Census. During address canvassing, census workers systematically canvassed all census blocks looking for living quarters and added, deleted, and corrected entries on the census address list to ensure its completeness and accuracy. In order to account for any housing units of which the construction began after the start of the Address Canvassing Operation, the Census Bureau will implement the New Construction Program.

The 2010 Decennial Census New Construction Program is conducted by the Census Bureau under the authority of Title 13, United States Code, Section 141(a), and is separate and distinct from the Local Update of Census Addresses Program (see 73 FR 12369) in that its only purpose is to identify addresses for housing units newly constructed (starting in March 2009) that are expected to be closed to the elements (final roof, windows, and doors) by Census Day, April 1, 2010. The New Construction Program was conducted for the first time as part of Census 2000.

Summary of Comments Received in Response to the Proposed New Construction Program

On July 1, 2009, the Census Bureau issued a Federal Register notice (74 FR 31405) requesting comments on the proposed 2010 Census New Construction Program. Four sets of comments on the proposal were received during the comment period. This notice issues final procedures that incorporate changes made as a result of the comments received.

A summary of the public comments and the response of the Census Bureau are provided below:

Commenter 1. The commenter suggested that the Census Bureau state its support for local governments to receive external assistance from nonprofit organizations or commercial firms in the form of philanthropic support and external expertise to participate fully in the New Construction Program. Commenter 1 also recommended that the New Construction Program be expanded to include all additional addresses that may be captured from commercially available sources (rather than confined to those newly constructed after the Address Canvassing Operation) OR that communities determined to be hard-to-count as determined by the Census 2000 Tract Level Planning Database be allowed to submit additional addresses sourced from commercial data for review in a separate program.

Response 1. The Census Bureau acknowledges the first suggestion and encourages governmental participants to leverage any non-governmental partnerships that will help them identify the address for newly constructed housing units. The Census Bureau did not adopt the second recommendation regarding which addresses to accept in the New Construction Program or the proposed separate new program for the final procedures. The Census Bureau leaves it to New Construction Program participants to identify newly constructed addresses from any source available, commercial or administrative. The Census Bureau confines the New Construction Program to the submission of newly constructed addresses (rather than allowing the submission of any address that may have been missed in the LUCA Program) because after the review phase of the LUCA Program, the Census Bureau conducted a nationwide field check of the census address list in the Address Canvassing Operation to bring the list up to date from the time the LUCA Program ended. To allow participants (who do not have access to the census address list as part of the New Construction Program) to add any address regardless of its construction date increases the risk of address duplication and costly and unnecessary field work. The successive operations to assure the completeness of the census address list (the LUCA Program, Address Canvassing, the New Construction Program, updates from the United States Postal Service's list of delivery addresses close to Census Day, and an address list update at the time of questionnaire delivery for areas where census staff deliver the questionnaires) in combination are designed to provide an address list that is as complete and accurate as possible.

Commenter 2. The commenter recommended that the New Construction Program be open to state governments in addition to tribal and local governments.

Response 2. The Census Bureau did not adopt this recommendation for the final procedures because most state governments are not likely to have current, on-the-ground knowledge of construction recently completed or in progress. Nonetheless, local governments wishing to enlist their state governments to assist are free to do so or can indicate to the Census Bureau that their New Construction materials should be sent to a state contact.

Commenter 3. The commenter recommended that New Construction Program participants be permitted to submit addresses for housing units constructed prior to March 2009, believing that there is no mechanism for participants to identify addresses for units constructed after the end of the LUCA Program but prior to the New Construction Program.

Response 3. The Census Bureau did not accept this recommendation for the final procedures. In the Address Canvassing Operation, conducted in the spring and summer of 2009, field staff canvassed blocks nationwide, adding any addresses that were missing from the census address list. The New Construction Program is designed to allow tribal and local governments to identify addresses for housing units constructed between the end of the Address Canvassing Operation and Census Day. Governments that participated in the LUCA Program will receive feedback on the results of the Address Canvassing for their areas; they may appeal the non-acceptance of any addresses they offered as adds to the census address list as well as any addresses deleted from the address list in the Address Canvassing Operation.

Commenter 4. The commenter noted that the proposal for the New Construction Program lacked a reference to the phenomenon of “hidden” or hard-to-find housing units, and that not just governments but other interested partners should be involved in identifying them.

Response 4. To the extent that the units meet the Census Bureau's definition for a housing unit¹ and are in mail-out/mail-back areas, have locatable city style addresses, and are a result of construction occurring between March 2009 and April 1, 2010, they can be submitted as part of the New Construction Program. The Census Bureau encourages governmental participants to leverage any non-governmental partnerships that will help them identify the addresses for newly constructed housing units.

¹ A housing unit is a house, an apartment, a mobile home or trailer, a group of rooms, or a single room occupied as a separate living quarters, or if vacant, intended for occupancy as separate living quarters. Separate living quarters are those in which the occupants live separately from any other individuals in the building and which have direct access from outside the building or through a common hall. For vacant units, the criteria of separateness and direct access are applied to the intended occupants whenever possible.

2010 Decennial Census New Construction Program

The 2010 Census New Construction Program is offered to Federally Recognized American Indian tribal governments with reservations and/or trust lands and local governments (counties, incorporated places, and functioning minor civil divisions) that include areas where the Census Bureau will deliver the census questionnaires by mail. For other areas, Census Bureau enumerators will hand deliver the census questionnaires to all housing units in each block, including any newly constructed units not already on the census address list. Tribal and local governments that wish to participate in the program will be invited to submit a list of addresses of newly constructed housing units for inclusion in the Census Address List. The address list submitted by New Construction Program participants must only include addresses for housing units for which construction began during or after March 2009 that are expected to be closed to the elements (final roof, windows, and doors) by Census Day, April 1, 2010. No street or boundary updates will be accepted by the New Construction Program.

The New Construction Program will not accept additions of Group Quarters addresses. Group Quarters addresses are defined as places where people live or stay in a group living arrangement that is owned or managed by an entity or organization providing housing and/or services for the residents. The Census Bureau has programs that are specifically designed to capture new Group Quarters addresses, including but not limited to, Group Quarters Validation, Group Quarters Advanced Visit, Group Quarters Enumeration, and the Count Review program.

The maps or spatial data that the Census Bureau provides to New Construction Program participants are for use as a reference for assigning census tract and block codes (geocoding) for each submitted address. The maps are offered in Portable Document Format (PDF) and spatial data are available from TIGER® in shapefile format that requires a Geographic Information System (GIS) software application for viewing.

For governments choosing maps in PDF, the Census Bureau will provide Adobe® Reader® software to view the PDF maps. For those participants who choose to use shapefiles, the Census Bureau will provide the MAF/TIGER Partnership Software (MTPS) to enter addresses and output them in the prescribed format. The MTPS is an easy-to-use desktop tool that makes participation easier for governments without a GIS system. The MTPS also provides map-viewing capability when used with the shapefiles provided by the Census Bureau. However, participants may use their own software to create a computer readable list of addresses in the prescribed format.

The Census Bureau will send out New Construction materials to registered participants during November 2009 through January 2010. The PDF package will contain the following:

(1) The New Construction Quick Start Document

(2) The New Construction User Guide

(3) The New Construction Address List Template

(4) Zip Software

(5) CD Readme.txt File

(6) PDF Software (Adobe® Reader®)

(7) New Construction Map PDFs

The MTPS/Shapefile package will contain the following:

(1) The New Construction Quick Start Document

(2) The New Construction User Guide

(3) The New Construction MTPS User Guide

(4) The New Construction Address List Template

(5) Zip Software

(6) CD Readme.txt File

(7) MTPS Software

(8) Shapefiles

Participants must submit their New Construction address lists to the Census Bureau within forty-five (45) calendar days after receipt of the New Construction materials. “Receipt” as used herein is defined as the delivery date reported to the Census Bureau by the delivery service that delivers the New Construction materials to the eligible government. The New Construction addresses must be returned in the Census Bureau's predefined format and each address must be “geocoded” or assigned to the census tract and block in which it is located as shown on the New Construction census maps (PDF or shapefiles).

Files that are submitted in the proper format are compared against the Census Bureau's Master Address File to check for any addresses already on the list. The Census Bureau, using the participant supplied addresses, will visit and attempt to enumerate each newly constructed housing unit that has been identified as missing from our list. The census enumeration process will determine the final housing unit status and population for each new unit.

Classification

Executive Order 12866

This notice has been determined to not be significant under Executive Order 12866.

Paperwork Reduction Act

Notwithstanding any other provision of law, no person is required to respond to, nor shall a person be subject to a penalty for failure to comply with, a collection of information subject to the requirements of the Paperwork Reduction Act (PRA) unless that collection of information displays a current, valid Office of Management and Budget (OMB) control number. In accordance with the PRA, 44 U.S.C., Chapter 35, the Census Bureau obtained clearance for this information collection in October 2009 under the Generic Clearance for Geographic Partnership Programs (OMB Control Number 0607-0795, expires on April 30, 2012).

Dated October 27, 2009.
Robert M. Groves,
Director, Bureau of the Census.

[FR Doc. E9-26423 Filed 11-2-09; 8:45 am]

BILLING CODE 3510-07-P